DEPARTMENT OF THE TREASURY

Office of the Comptroller of the Currency

Agency Information Collection Requirements; Information Collection Renewals; Comment Requests; Request for a Religious Exception to the COVID-19 Vaccine Requirement; and Request for a Medical Exception to the COVID-19 Vaccine Requirement

AGENCY: Office of the Comptroller of the Currency (OCC), Treasury.

ACTION: Notice and requests for comment.

SUMMARY: The OCC, as part of its continuing effort to reduce paperwork and respondent burden, invites the general public and other Federal agencies to take this opportunity to comment on the renewal of two information collections as required by the Paperwork Reduction Act of 1995 (PRA). In accordance with the requirements of the PRA, the OCC may not conduct or sponsor, and the respondent is not required to respond to, an information collection unless it displays a currently valid Office of Management and Budget (OMB) control number. The OCC is soliciting comment concerning the renewal of its information collections titled, “Request for a Religious Exception to the COVID-19 Vaccine Requirement;” and “Request for a Medical Exception to the COVID-19 Vaccine Requirement.”

DATES: You should submit written comments by March 21, 2022.

ADDRESSES: Commenters are encouraged to submit comments by email, if possible. You may submit comments by any of the following methods:

• Email: prainfo@occ.treas.gov.

• Mail: Chief Counsel's Office, Attention: Comment Processing, Office of the Comptroller of the Currency, Attention: 1557-0353 or 1557-0352, 400 7th Street SW, Suite 3E-218, Washington, DC 20219.

• Hand Delivery/Courier: 400 7th Street SW, Suite 3E-218, Washington, DC 20219.

• Fax: (571) 465-4326.

Instructions: You must include “OCC” as the agency name and “1557-0353” and/or “1557-0352” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

You may review comments and other related materials that pertain to this information collection beginning on the date of publication of the second notice for these collections by the method set forth in the next bullet. Following the close of this notice's 60-day comment period, the OCC will publish a second notice with a 30-day comment period:

• Viewing Comments Electronically: Go to www.reginfo.gov. Hover over the “Information Collection Review” dropdown. Underneath the “Currently under Review” section heading, from the drop-down menu select “Department of Treasury” and then click “submit.” These information collections can be located by searching by: OMB control number “1557-0353” or “Request for a Religious Exception to the COVID-19 Vaccine Requirement;” or “1557-0352” or “Request for a Medical Exception to the COVID-19 Vaccine Requirement.”

Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer, (202) 649-5490, Chief Counsel's Office, Office of the Comptroller of the Currency, 400 7th Street SW, Suite 3E-218, Washington, DC 20219.

SUPPLEMENTARY INFORMATION: Under the PRA (44 U.S.C. 3501-3520), Federal agencies must obtain approval from the Office of Management and Budget (OMB) for each collection of information that they conduct or sponsor. “Collection of information” is defined in 44 U.S.C. 3502(3) and 5 CFR 1320.3(c) to include agency requests or requirements that members of the public submit reports, keep records, or provide information to a third party. Section 3506(c)(2)(A) of title 44 requires Federal agencies to provide a 60-day notice in the Federal Register concerning each proposed collection of information, including each proposed extension of an existing collection of information, before submitting the collection to OMB for approval. To comply with this requirement, the OCC is publishing notice of the renewal of the emergency approvals granted to the information collections set forth in this document.

Title: Request for a Religious Exception to the COVID-19 Vaccine Requirement.

OMB Control No.: 1557-0353.

Title: Request for a Medical Exception to the COVID-19 Vaccine Requirement.

OMB Control No.: 1557-0352.

Abstract: The President, by Executive order 13991 (January 20, 2021) established the Safer Federal Workforce Task Force. The Task force was established to give the heads of Federal agencies ongoing guidance to keep their employees safe and their agencies operating during the COVID-19 pandemic. The Task force issued guidance, in accordance with the President's Executive Order 14043 (September 9, 2021), requiring Federal employees to be vaccinated against COVID-19 by November 22, 2021 absent an exception required by law. To determine whether employees who request a religious or medical exception qualify for the exception sought, or, alternatively, must comply with the November 22 deadline, the OCC has developed the “Request for Religious Exception to the COVID-19 Vaccination Requirement Form” and the “Request for Medical Exception to the COVID-19 Vaccination Requirement Form” (collectively, Request forms).

The Request forms were developed, consistent with guidance issued by the Task force and the U.S. Department of Treasury's Office of Civil Rights and Diversity, to gather information from employees and applicants for employment who have requested religious or medical exceptions to determine whether such employees qualify for legal exceptions to the vaccine requirement. The Request forms also will be used to collect information from job applicants who may request a legal exception upon receiving an offer of employment from the OCC.

Type of Review: Extension, without change, of a currently approved collection.

Affected Public: Businesses or other for-profit; individuals.

Religious Exception:

Estimated Number of Respondents: 4 Job Applicants.

Estimated Burden per Respondent: 0.50 hours.

Total Burden: 2 hours.

Medical Exception:

Estimated Number of Respondents: 2 Job Applicants; 66 Medical Professionals.

Estimated Burden per Respondent: 0.25 hours for Job Applicants; 0.50 hours for Medical Professionals.

Total Burden: 33.5 hours.

Comments submitted in response to this notice will be summarized and included in the requests for OMB approval. All comments will become a matter of public record. Comments are invited on:

(a) Whether the collections of information are necessary for the proper performance of the functions of the agency, including whether the information has practical utility;

(b) The accuracy of the agency's estimates of the burden of the collections of information;

(c) Ways to enhance the quality, utility, and clarity of the information to be collected;

(d) Ways to minimize the burden of the collections on respondents, including through the use of automated collection techniques or other forms of information technology; and

(e) Estimates of capital or start-up costs and costs of operation, maintenance, and purchase of services to provide information.

Patrick T. Tierney,
Assistant Director, Bank Advisory, Office of the Comptroller of the Currency.

[FR Doc. 2022-00836 Filed 1-14-22; 8:45 am]

BILLING CODE 4810-33-P